DEPARTMENT OF ENERGY

Federal Energy Regulatory Commission

Combined Notice of Filings #1

Take notice that the Commission received the following exempt wholesale generator filings:

Docket Numbers: EG20-193-000.

Applicants: Titan Solar 1, LLC.

Description: Titan Solar 1, LLC Notice of Self-Certification of Exempt Wholesale Generator Status.

Filed Date: 6/18/20.

Accession Number: 20200618-5185.

Comments Due: 5 p.m. ET 7/9/20.

Take notice that the Commission received the following electric rate filings:

Docket Numbers: ER10-1633-002.

Applicants: Deseret Generation and Transmission Co-operative, Inc.

Description: Supplement to July 26, 2019 Updated Market Power Analysis of Deseret Generation and Transmission Co-operative, Inc.

Filed Date: 6/18/20.

Accession Number: 20200618-5141.

Comments Due: 5 p.m. ET 7/9/20.

Docket Numbers: ER19-1939-002.

Applicants: Arizona Public Service Company.

Description: Compliance filing: FERC Order 845 Amendment to Compliance Filing to be effective 5/22/2019.

Filed Date: 6/19/20.

Accession Number: 20200619-5149.

Comments Due: 5 p.m. ET 7/10/20.

Docket Numbers: ER20-159-000.

Applicants: Midcontinent Independent System Operator, Inc., Pioneer Transmission LLC.

Description: Compliance Filing with Opinion No. 569-A of Pioneer Transmission, LLC.

Filed Date: 6/19/20.

Accession Number: 20200619-5147.

Comments Due: 5 p.m. ET 7/10/20.

Docket Numbers: ER20-2101-000.

Applicants: Fern Solar LLC.

Description: Baseline eTariff Filing: Baseline new to be effective 7/15/2020.

Filed Date: 6/18/20.

Accession Number: 20200618-5161.

Comments Due: 5 p.m. ET 7/9/20.

Docket Numbers: ER20-2102-000.

Applicants: Tri-State Generation and Transmission Association, Inc.

Description: § 205(d) Rate Filing: Rate Schedule FERC No. 284 between Tri-State and Niobrara to be effective 6/19/2020.

Filed Date: 6/18/20.

Accession Number: 20200618-5151.

Comments Due: 5 p.m. ET 7/9/20.

Docket Numbers: ER20-2103-000.

Applicants: Turquoise Nevada LLC.

Description: § 205(d) Rate Filing: Second Amended and Restated Shared Facilities Agreement to be effective 2/22/2020.

Filed Date: 6/19/20.

Accession Number: 20200619-5003.

Comments Due: 5 p.m. ET 7/10/20.

Docket Numbers: ER20-2104-000.

Applicants: Midcontinent Independent System Operator, Inc.

Description: § 205(d) Rate Filing: 2020-06-18_SA 3037 DTE Electric-METC 3rd Rev GIA (J589 J794) to be effective 6/5/2020.

Filed Date: 6/19/20.

Accession Number: 20200619-5055.

Comments Due: 5 p.m. ET 7/10/20.

Docket Numbers: ER20-2105-000.

Applicants: Midcontinent Independent System Operator, Inc.

Description: § 205(d) Rate Filing: 2020-06-19_Revisions to Attachments FF-4 to add Republic and GridLiance to be effective 8/24/2020.

Filed Date: 6/19/20.

Accession Number: 20200619-5058.

Comments Due: 5 p.m. ET 7/10/20.

Docket Numbers: ER20-2106-000.

Applicants: Northern Indiana Public Service Company.

Description: § 205(d) Rate Filing: Filing of a CIAC Agreement to be effective 6/24/2020.

Filed Date: 6/19/20.

Accession Number: 20200619-5062.

Comments Due: 5 p.m. ET 7/10/20.

Docket Numbers: ER20-2107-000.

Applicants: Burgess Biopower LLC.

Description: § 205(d) Rate Filing: Request for Category 1 Seller Status in the Northeast Region to be effective 6/20/2020.

Filed Date: 6/19/20.

Accession Number: 20200619-5074.

Comments Due: 5 p.m. ET 7/10/20.

Docket Numbers: ER20-2108-000.

Applicants: Great Bay Solar II, LLC.

Description: § 205(d) Rate Filing: Reactive Power Rate Schedule to be effective 8/18/2020.

Filed Date: 6/19/20.

Accession Number: 20200619-5078.

Comments Due: 5 p.m. ET 7/10/20.

Docket Numbers: ER20-2109-000.

Applicants: PJM Interconnection, L.L.C.

Description: § 205(d) Rate Filing: Amendment to ISA, SA No. 5604 and CSA, SA No. 5614; Queue No. AC1-164 (consent) to be effective 2/24/2020.

Filed Date: 6/19/20.

Accession Number: 20200619-5100.

Comments Due: 5 p.m. ET 7/10/20.

Docket Numbers: ER20-2110-000.

Applicants: Pacific Gas and Electric Company.

Description: Tariff Cancellation: Notice of Termination Avenal Solar Holdings E&P Agreement (WDT SA 2100 EP-10) to be effective 5/22/2020.

Filed Date: 6/19/20.

Accession Number: 20200619-5113.

Comments Due: 5 p.m. ET 7/10/20.

Docket Numbers: ER20-2111-000.

Applicants: Southwest Power Pool, Inc.

Description: § 205(d) Rate Filing: 3203R1 Evergy Missouri West & City of Osceola, MO Inter Agr to be effective 8/18/2020.

Filed Date: 6/19/20.

Accession Number: 20200619-5125.

Comments Due: 5 p.m. ET 7/10/20.

Docket Numbers: ER20-2112-000.

Applicants: Southwest Power Pool, Inc.

Description: § 205(d) Rate Filing: 3341R1 Evergy Metro/City of Gardner, KS Interconnection Agr to be effective 8/18/2020.

Filed Date: 6/19/20.

Accession Number: 20200619-5128.

Comments Due: 5 p.m. ET 7/10/20.

Docket Numbers: ER20-2113-000.

Applicants: New York Independent System Operator, Inc.

Description: § 205(d) Rate Filing: 205 filing re: Operating Reserves & ESR schedules during reserve pickups to be effective 12/31/9998.

Filed Date: 6/19/20.

Accession Number: 20200619-5148.

Comments Due: 5 p.m. ET 7/10/20.

Docket Numbers: ER20-2114-000.

Applicants: Southwest Power Pool, Inc.

Description: § 205(d) Rate Filing: 3051R1 Empire District and Evergy Kansas South Inter Agr to be effective 8/18/2020.

Filed Date: 6/19/20.

Accession Number: 20200619-5154.

Comments Due: 5 p.m. ET 7/10/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 19, 2020.
Nathaniel J. Davis, Sr.,
Deputy Secretary.

[FR Doc. 2020-13713 Filed 6-24-20; 8:45 am]

BILLING CODE 6717-01-P